DEPARTMENT OF THE INTERIOR

Minerals Management Service

Request for Nominations for Public Members to the Royalty Policy Committee of the Minerals Management Advisory Board

AGENCY: Minerals Management Service (MMS), Interior.

ACTION: Request for nomination.

SUMMARY: The Secretary of the Department of the Interior has established a Royalty Policy Committee (RPC), on the Minerals Management Advisory Board, to provide advice on the Department's management of Federal and Indian minerals leases, revenues, and other minerals related policies. RPC membership includes representatives from States, Indian Tribes and allottee organizations, minerals industry associations, other governmental agencies, and the interested public. Members serve 2-year terms without pay but will be reimbursed for travel expenses incurred when attending official RPC meetings. Reimbursements will be calculated in accordance with the Federal travel regulations as implemented by the Department. The RPC currently has one vacant public position and another due to expire at the beginning of next year. The Director, MMS, is requesting nominations to complete the RPC's public membership that allows up to four representatives. These nominations may originate from State and local governments, universities, other public organizations or individuals, and may include self-nominations. Nominees should have knowledge of the mineral and energy industry to assure sound representation of the public interest. The nomination package must include a nomination letter from an interested organization, or a self-nomination letter from an individual, outlining the candidate's qualifications including an updated biography with mailing and email addresses. All nomination packages received will be subject to the Department's diversity policies.

DATES: Submit nominations on or before January 31, 2003.

ADDRESSES: Submit nominations to Gary Fields, Minerals Revenue Management, MMS, P.O. Box 25165, MS 300B3, Denver, CO 80225-0165, telephone number (303) 231-3102, fax number (303) 231-3780, e-mail: gary.fields@mms.gov.

FOR FURTHER INFORMATION CONTACT: Gary Fields, Minerals Revenue Management, MMS, P.O. Box 25165, MS 300B3, Denver, CO 80225-0165, telephone number (303) 231-3102, fax number (303) 231-3780.

SUPPLEMENTARY INFORMATION: The location and dates of future Committee meetings will be published in the Federal Register and posted on the Internet at http://www.rmp.mms.gov/Laws_R_D/RoyPC.htm. Meetings are open to the public without advanced registration on a space available basis. The public may make statements during the meetings, to the extent time permits, and file written statements with the Committee for its consideration. Copies of these written statements should be submitted to Gary Fields.

Committee meetings are conducted under the authority of the Federal Advisory Committee Act, Pub. L. 92-463, 5 U.S.C. appendix 1, and Office of Management and Budget Circular No. A-63, revised.

Dated: October 2, 2002.
Lucy Querques Denett,
Associate Director for Minerals Revenue Management.

[FR Doc. 02-25704 Filed 10-8-02; 8:45 am]

BILLING CODE 4310-MR-P